CONSUMER PRODUCT SAFETY COMMISSION

[Docket No. CPSC-2006-0057]

Notice of Availability: Plan To Evaluate CO Mitigation Requirements for Portable Generators

AGENCY: Consumer Product Safety Commission.

ACTION: Notice of availability.

SUMMARY: The Consumer Product Safety Commission (CPSC) is announcing the availability of, and seeking comment on, a document related to CPSC's efforts to address carbon monoxide poisoning hazards from portable generators, NIST Technical Note 2048, “Simulation and Analysis Plan to Evaluate the Impact of CO Mitigation Requirements for Portable Generators.”

DATES: Submit comments by September 9, 2019.

ADDRESSES: You may submit comments, identified by Docket No. CPSC-2006-0057, by any of the following methods:

Electronic Submissions: Submit electronic comments in the following way: Federal eRulemaking Portal: http://www.regulations.gov. Follow the instructions for submitting comments. To ensure timely processing of comments, please submit all electronic (email) comments through www.regulations.gov rather than to CPSC. CPSC encourages you to submit electronic comments by using the Federal eRulemaking Portal, as described above.

Written Submissions: Submit written comments in the following way: Mail/Hand delivery/Courier (for paper, disk or CD-ROM submissions), preferably in five copies, to: Division of the Secretariat, Consumer Product Safety Commission, Room 820, 4330 East West Highway, Bethesda, MD 20814; telephone (301) 504-7923.

Instructions: All submissions received must include the agency name and docket number for this notice. All comments received may be posted without change to http://www.regulations.gov, including any personal identifiers, contact information, or other personal information provided. Do not submit confidential business information, trade secret information, or other sensitive or protected information that you do not want to be available to the public. If furnished at all, such information should be submitted by mail/hand delivery/courier.

Docket: For access to the docket to read background documents or comments received, go to: http://www.regulations.gov, insert docket number CPSC-2006-0057 into the “Search” box, and follow the prompts.

FOR FURTHER INFORMATION CONTACT: Janet Buyer, Project Manager, Directorate for Engineering Sciences, Consumer Product Safety Commission, 5 Research Place, Rockville, MD 20850; telephone: 301-987-2293; email: jbuyer@cpsc.gov.

SUPPLEMENTARY INFORMATION: The CPSC is engaged in an ongoing effort to address carbon monoxide (CO) poisonings of consumers from portable generators.¹ The National Institute of Standards and Technology (NIST) and CPSC staff have developed a plan that will enable CPSC staff to estimate the effectiveness of CO mitigation requirements that were adopted in two voluntary standards in 2018: ANSI/PGMA G300-2018, Safety and Performance of Portable Generators (PGMA G300) and ANSI/UL 2201-2018, Carbon Monoxide (CO) Emission Rate of Portable Generators (UL 2201). PGMA G300 has requirements for a system that will shut off the generator when specific CO concentrations are present near the generator, as well as notification requirements to alert the user of the presence of CO after the generator has shut off. UL 2201 has requirements for a system that will shut off the generator when specific CO concentrations are present near the generator and a requirement for a reduced CO emission rate.

¹ On November 21, 2016, the Commission published a notice of proposed rulemaking (NPRM) to address the CO hazard associated with portable generators. (Safety Standard for Portable Generators, 81 FR 83,556).

The plan to evaluate the CO mitigation requirements in PGMA G300 and UL 2201 is presented in NIST Technical Note 2048, “Simulation and Analysis Plan to Evaluate the Impact of CO Mitigation Requirements for Portable Generators” (NIST TN 2048). NIST TN 2048 documents the plan for conducting a computer simulation study and for analyzing the output. The methodology in NIST TN 2048 is similar to the methodology CPSC staff used to evaluate the benefits of the proposed portable generator rule the Commission issued in 2016. The simulation study will use the same 40 buildings, weather conditions, and generator characteristics that were used to evaluate the benefits in the Commission's 2016 portable generator proposed rule to study the rate at which the CO emitted from the generator accumulates in, transports through, and leaves the homes and detached garages for generators with and without CO safety shutoff systems. The plan includes more than 900 scenarios in all the buildings that will require more than a million simulations, the output of which will be analyzed to estimate the effectiveness of the voluntary standards.

The Commission seeks public comment on this NIST Technical Note. NIST TN 2048 is available on NIST's website at: http://dx.doi.org/10.6028/NIST.TN.2048, and from the Commission's Division of the Secretariat, at the location listed in the ADDRESSES section of this notice.

NIST TN 2048 references another NIST report, NIST Technical Note 2049, “Carbon Monoxide Concentrations and Carboxyhemoglobin Profiles from Portable Generators with a CO Safety Shutoff in a Test House” (NIST TN 2049). NIST TN 2049 documents the results from a series of tests and model validation work that NIST performed to develop methods that CPSC staff will use in the Simulation Plan. NIST TN 2049 is available on NIST's website at: http://dx.doi.org/10.6028/NIST.TN .2049, and can also be obtained from the Commission's Division of the Secretariat.

Alberta E. Mills,
Secretary, Consumer Product Safety Commission.

[FR Doc. 2019-14510 Filed 7-8-19; 8:45 am]

BILLING CODE 6355-01-P